FEDERAL RESERVE SYSTEM

Formations of, Acquisitions by, and Mergers of Bank Holding Companies; Correction

This notice corrects a notice (FR Doc. E6-9483) published on page 35272 of the issue for Monday, June 19, 2006.

Under the Federal Reserve Bank of Atlanta heading, the entry for H Financial of Florida, Inc., Ponte Vedra Beach, Florida, is revised to read as follows:

B. Federal Reserve Bank of Atlanta (Andre Anderson, Vice President) 1000 Peachtree Street, N.E., Atlanta, Georgia 30309:

1. H Financial of Florida, Inc., St. Augustine, Florida; to become a bank holding company by acquiring 100 percent of the voting shares of Haven Trust Bank, St. Augustine, Florida.

Comments on this application must be received by July 13, 2006.

Board of Governors of the Federal Reserve System, June 20, 2006.
Jennifer J. Johnson,
Secretary of the Board.

[FR Doc. E6-9937 Filed 6-22-06; 8:45 am]

BILLING CODE 6210-01-S